DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On January 31, 2023, OFAC determined that the property and interests in property subject to U.S. jurisdiction of the following persons are blocked under the relevant sanctions authority listed below.

Individuals

1. AUNG, Htun (a.k.a. AUNG, Tun), Burma; DOB 1967; nationality Burma; Gender Male; Commander-in-Chief (Air) (individual) [BURMA-EO14014].

Designated pursuant to section 1(a)(iii)(A) of Executive Order 14014 of February 10, 2021, “Blocking Property With Respect to the Situation in Burma” (“E.O. 14014”) for being or having been a leader or official of the military or security forces of Burma, or any successor entity to any of the foregoing.

2. SWE, Hla, Burma; DOB 28 Sep 1960; POB Chauk, Magway, Burma; nationality Burma; citizen Burma; Gender Male; National ID No. 8/GaGaNa N 085996 (Burma) (individual) [BURMA-EO14014].

Designated pursuant to section 1(a)(ii)(B) of E.O. 14014 for being responsible for or complicit in, or having directly or indirectly engaged in or attempted to engage in, actions or policies that threaten the peace, security, or stability of Burma.

3. TAY ZA, Htoo Htwe (a.k.a. TAY ZA, Rachel; a.k.a. TAYZA, Htoo Htwe; a.k.a. TAYZA, Rachel), Burma; DOB 14 Sep 1996; nationality Burma; Gender Female (individual) [BURMA-EO14014] (Linked To: ZA, Tay).

Designated pursuant to section 1(a)(v) of E.O. 14014 for being a spouse or adult child of TAY ZA, a person whose property and interests in property are blocked pursuant to this Order.

4. MIN, Aung, Burma; DOB 27 Oct 1962; POB Burma; nationality Burma; Gender Male (individual) [BURMA-EO14014].

Designated pursuant to section 1(a)(iii)(B) of E.O. 14014 for being or having been a leader or official of the Government of Burma on or after February 2, 2021.

5. OO, Myo Myint, Burma; DOB 23 Jun 1960; POB Yangon, Burma; nationality Burma; Gender Male; Passport DM002422 (Burma) issued 19 Mar 2014 expires 18 Mar 2024; National ID No. 12DAGATA024453 (Burma); Union Minister of Energy (individual) [BURMA-EO14014].

Designated pursuant to section 1(a)(iii)(B) of E.O. 14014 for being or having been a leader or official of the Government of Burma on or after February 2, 2021.

6. MIN, Than, Burma; DOB 23 Nov 1956; POB Myinmu, Burma; Gender Male; National ID No. 12 LAMANA 062661 (Burma) (individual) [BURMA-EO14014].

Designated pursuant to section 1(a)(iii)(B) of E.O. 14014 for being or having been a leader or official of the Government of Burma on or after February 2, 2021.

Entities

1. MINING ENTERPRISE NO 1 (a.k.a. MINING ENTERPRISE NUMBER ONE; a.k.a. MYANMA MINING ENTERPRISE NUMBER 1; a.k.a. MYANMAR MINING ENTERPRISE NUMBER 1; a.k.a. NO. 1 MINING ENTERPRISE), Bu Tar Street, Forest Street, Monywa, Sagaing Region, Burma; Organization Type: Mining and Quarrying [BURMA-EO14014].

Designated pursuant to section 1(a)(iv) of E.O. 14014 for being a political subdivision, agency, or instrumentality of the Government of Burma.

2. MINING ENTERPRISE NO 2 (a.k.a. MYANMA MINING ENTERPRISE NUMBER 2; a.k.a. MYANMAR MINING ENTERPRISE NUMBER 2; a.k.a. NO. 2 MINING ENTERPRISE; a.k.a. NUMBER 2 MINING ENTERPRISE), Myay Myint Quarter, Pyi Htaung Su Road, Myitkyina, Kachin State, Burma; Organization Type: Mining and Quarrying [BURMA-EO14014].

Designated pursuant to section 1(a)(iv) of E.O. 14014 for being a political subdivision, agency, or instrumentality of the Government of Burma.

3. UNION ELECTION COMMISSION, Office No. 22, Zeyahtani 2 Street, Nay Pyi Taw, Burma; Organization Type: General public administration activities [BURMA-EO14014].

Designated pursuant to section 1(a)(iv) of E.O. 14014 for being a political subdivision, agency, or instrumentality of the Government of Burma.

Authority: E.O. 14014, 86 FR 9429.

Dated: January 31, 2023.
Andrea M. Gacki,
Director, Office of Foreign Assets Control, U.S. Department of the Treasury.

[FR Doc. 2023-02327 Filed 2-2-23; 8:45 am]

BILLING CODE 4810-AL-P